DEPARTMENT OF EDUCATION

[Docket No.: ED-2021-SCC-0114]

Agency Information Collection Activities; Comment Request; Progress in International Reading Literacy Study (PIRLS 2021) Main Study Data Collection

AGENCY: Institute for Education Sciences (IES), National Center for Education Statistics (NCES), Department of Education (ED).

ACTION: Notice.

SUMMARY: In accordance with the Paperwork Reduction Act of 1995, ED is requesting the Office of Management and Budget (OMB) to conduct an emergency review of an information collection.

DATES: Approval by the OMB has been requested by July 30, 2021. Interested persons are invited to submit comments on or before September 1, 2021.

ADDRESSES: To access and review all the documents related to the information collection listed in this notice, please use http://www.regulations.gov by searching the Docket ID number ED-2021-SCC-0114. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208B, Washington, DC 20202-8240.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Progress in International Reading Literacy Study (PIRLS 2021) Main Study Data Collection.

OMB Control Number: 1850-0645.

Type of Review: A revision of an approved information collection.

Respondents/Affected Public: Individuals or Households.

Total Estimated Number of Annual Responses: 31,028.

Total Estimated Number of Annual Burden Hours: 10,716.

Abstract: The Progress in International Reading Literacy Study (PIRLS) is coordinated by the International Association for the Evaluation of Educational Achievement (IEA), an international collective of research organizations and government agencies that create the assessment framework, the assessment instrument, and background questionnaires. The IEA decides and agrees upon a common set of standards and procedures for collecting and reporting PIRLS data, and defines the studies' timeline, all of which must be followed by all participating countries. As a result, PIRLS is able to provide a reliable and comparable measure of student skills in participating countries. In the U.S., the National Center for Education Statistics (NCES) conducts this study, with support from U.S. Department of Education contractors, and works with the IEA to ensure proper implementation of the study and adoption of practices in adherence to the IEA's standards. Participation in PIRLS allows NCES to meet its mandate of acquiring and disseminating data on educational activities and student achievement in the U.S. compared with foreign nations [The Educational Sciences Reform Act of 2002 (ESRA 2002) 20 U.S.C. 9543]. PIRLS is an international assessment of fourth-grade students' achievement in reading. PIRLS reports on four benchmarks in reading achievement at grade 4 (Advanced, High, Medium, and Low) and on a variety of issues related to the education context for the students in the sample, including instructional practices, school resources, curriculum implementation, and learning supports outside of school. Since its inception in 2001, PIRLS has continued to assess students every 5 years (2001, 2006, 2011, and 2016), with the next PIRLS assessment, PIRLS 2021, being the fifth iteration of the study. Participation in this study by the United States at regular intervals provides data on student achievement and on current and past education policies and a comparison of U.S. education policies and student performance with those of the U.S. international counterparts. In PIRLS 2016, 58 education systems participated. The U.S. will participate in PIRLS 2021 to continue to monitor the progress of its students compared to that of other nations and to provide data on factors that may influence student achievement. In preparation for the PIRLS 2021 main study, all countries were asked to implement a field test in 2020 in order to evaluate new assessment items and background questions, to ensure practices that promote low exclusion rates, and to ensure that classroom and student sampling procedures proposed for the main study are successful. In selecting a school sample for this purpose, it is important to minimize the burden on schools, districts, and states, while also ensuring that the field test data are collected effectively. PIRLS staff will work to help respondents understand the study's value relative to the burden imposed, and to ensure a high level of school participation. Data collection for the field test in the U.S. occurred from March 1 through April 15, 2020 and involved a sample of 45 public schools and about 1,650 students (selecting two classes from each school). The U.S PIRLS 2021 main study involves a nationally-representative sample of 290 schools and about 9,280 students. Main study data collection was originally scheduled to be completed in Spring 2021, but due to the COVID-19 pandemic the main study has been delayed and will be conducted from September through October 2021. The submission describing the overarching plan for all phases of the data collection, including the 2021 main study, and requesting approval for all activities, materials, and response burden related to the field test recruitment was approved in April 2019 with a change request in September 2019 (OMB #1850-0645 v.11-12), while the submission describing all aspects of the field test and recruitment for the main study was approved in October 2019 (OMB #1850-0645 v.13). The submission for all aspects of the PIRLS 2021 main study, including data collection activities, with an accompanying 30-day public comment period was approved in May 2020 (OMB #1850-0645 v.14) with a change request in February 2021 (OMB #1850-0645 v.15). In summer 2021, NCES was notified by the IEA that teacher questionnaire data from the United States would not be included in the PIRLS international report or international database. At the same time, IEA requested changes to the school questionnaire to solicit information about the 2020-2021 school year. The exceptional circumstances of the 2021 PIRLS administration in the United States and these other countries (assessing fifth-grade students at the beginning of the academic year rather than fourth-grade students at the end of the academic year) present challenges for reporting and interpreting some PIRLS questionnaire data. This issue impacts other Northern Hemisphere countries administering the PIRLS teacher questionnaire to the teachers of fifth grade students in the fall of 2021. Due to the exclusion of teacher questionnaire data from international reporting and limitations in its use for national analysis, the U.S. PIRLS 2021 administration will no longer include a teacher questionnaire component. In accordance with the IEA's guidance, the school questionnaire has been modified to more adequately characterize the impact of the pandemic on students in countries assessing students at the beginning of fifth grade rather than at the end of the fourth grade. Note, for example, that the school questionnaire now asks questions about resources available to 4th grade students. The aim is to evaluate students at the beginning of their fifth-grade year, in light of what was available to them throughout their fourth-grade year. These changes will facilitate the inclusion of U.S. data in international reports that include findings from the school questionnaire.

Additional Information: An emergency clearance approval for the use of the system is described below due to the following conditions:

• NCES requests emergency clearance to allow us to continue recruiting schools for participation in a Fall 2021 data collection after substantive changes were required to an already approved and finalized data collection plan. The need for immediate clearance is due to the time sensitivity of this data collection, as normal clearance procedures would not allow NCES to follow the mandates set by the sponsoring international organization and make the required changes to the data collection while also respecting the timeline specified for this data collection. NCES will publish a Federal Register Notice soliciting 30 days of public comment on this collection concurrent with continued recruitment and data collection.

Dated: July 27, 2021.
Stephanie Valentine,
PRA Coordinator, Strategic Collections and Clearance, Governance and Strategy Division, Office of Chief Data Officer.

[FR Doc. 2021-16342 Filed 7-30-21; 8:45 am]

BILLING CODE 4000-01-P